DEPARTMENT OF TRANSPORTATION

Federal Aviation Administration

14 CFR Part 71

[Airspace Docket No. 99-AGL-48]

RIN 2120-AA66

Amendment to Jet Routes J-78 and J-112; Evansville, IN; Correction

AGENCY: Federal Aviation Administration (FAA), DOT.

ACTION: Final rule; correction.

SUMMARY: This action corrects a final rule published in the Federal Register on December 20, 1999. The legal description of Jet Route 78 (J-78) contained an inadvertent error that omitted Tulsa, OK, between Will Rogers, OK, and Farmington, MO. This action corrects that error.

EFFECTIVE DATE: March 3, 2000.

FOR FURTHER INFORMATION CONTACT: Sheri Edgett Baron, Airspace and Rules Division, ATA-400, Office of Air Traffic Airspace Management, Federal Aviation Administration, 800 Independence Avenue, SW., Washington, DC 20591; telephone: (202) 267-8783.

SUPPLEMENTARY INFORMATION: On December 20, 1999 (64 FR 71014), Airspace Docket No. 99-AGL-48, FR Doc. 99-32885, was published amending the legal description of J-78 and J-112 between the Farmington, MO, Very High Frequency Omnidirectional Range/Tactical Air Navigation (VORTAC) and the Louisville, KY, VORTAC. This rule included a legal description of J-78, which inadvertently omitted Tulsa, OK, between Will Rogers, OK, and Farmington, MO. This action adds Tulsa, OK, to the legal description of J-78, thereby correcting this error.

Correction to Final Rule

Accordingly, pursuant to the authority delegated to me, the legal description for J-78 as published in the Federal Register on December 20, 1999 (64 FR 71014); FR Doc. 99-32885, and incorporated by reference in 14 CFR 71.1, is corrected as follows:

§ 71.1 [Corrected]

On page 71015, in column 1, correct the legal description of J-78 to read as follows:

Paragraph 2004 Jet Routes

* * * * *

J-78 [Revised]

From Los Angeles, CA, via Seal Beach, CA; Thermal, CA; Parker, CA; Drake, AZ; Zuni, AZ; Albuquerque, NM; Tucumcari, NM; Panhandle, TX; Will Rogers, OK; Tulsa, OK; Farmington, MO; Pocket City, IN; Louisville, KY; Charleston, WV; Philipsburg, PA; to Milton, PA.

* * * * *

Issued in Washington, DC, on February 25, 2000.
Reginald C. Matthews,
Manager, Airspace and Rules Division.

[FR Doc. 00-5057 Filed 3-2-00; 8:45 am]

BILLING CODE 4910-13-P